DEPARTMENT OF DEFENSE

Office of the Secretary

Establishment of the U.S. Joint Forces Command Transformation Advisory Group

AGENCY: Department of Defense

ACTION: Notice of establishment.

SUMMARY: The U.S. Joint Forces Command Transformation Advisory Group (TAG) is being established in consonance with the public interest and in accordance with the provisions of Pub. L. 92-463, the “Federal Advisory Committee Act,” title 5 U.S.C., appendix 2. The TAG will provide guidance and assistance in fulfilling Joint Forces Command's mission. The TAG will address subject related to the study and experimentation of joint warfighting concepts and capabilities.

The TAG will be composed of a broad spectrum of nationally renowned civilian and military members able to give diverse and divergent points of view. The committee will be balanced among military and civilian national security experts, academicians, civilian leaders in public service, and others who will afford this command multiple views on issues affecting strategic planning.

FOR FURTHER INFORMATION CONTACT: Ms. Stephanie Roper-Burton, at (757) 836-0965.

Dated: May 20, 2003.
Patricia L. Toppings,
Alternate OSD Federal Register Liaison Officer, Department of Defense.

[FR Doc. 03-13228 Filed 5-27-03; 8:45 am]

BILLING CODE 5001-08-M